NATIONAL COUNCIL ON DISABILITY

Sunshine Act Meetings

TIME AND DATES: The board meeting will be held on Thursday, May 19, 2011, 1 p.m.-5:30 p.m., ET, and Friday, May 20, 2011, 9 a.m.-5:30 p.m., ET.

PLACE: The board meeting will occur at the Access Board Conference Room, 1331 F Street, NW., Suite 800, Washington, DC.

STATUS: Parts of this meeting will be open to the public. The rest of the meeting will be closed to the public.

MATTERS TO BE CONSIDERED: The agenda for the board meeting includes a review of the agency's budget and fiscal year obligations, strategic plan implementation, a public comment session, and other items, to be determined. The meeting on Thursday will be conducted in a closed session to discuss internal personnel rules and practices, pursuant to paragraph (c)(2) of the Sunshine Act, and in accordance with a determination made by the NCD Chairman. A public comment session will be held on Friday, May 20, from 1 p.m. until 1:30 p.m. Individuals interested in making public comments may do so in-person, by phone, or by providing written comments by e-mail, fax, or mail. The toll-free call-in number is 1-888-972-9933, and the passcode is “NCD Meeting.” Written comments on disability-related issues of concern or interest may be mailed to NCD's office at 1331 F Street, NW., Suite 850, Washington, DC 20004; faxed to the NCD office at (202) 272-2022; or may also be e-mailed to ncd@ncd.gov at any time.

PORTIONS OPEN TO THE PUBLIC: The meeting on Friday, May 20, 9 a.m.-5:30 p.m. will be open to the public.

PORTIONS CLOSED TO THE PUBLIC: The meeting on Thursday, May 19, 1 p.m.-5:30 p.m. will be closed to the public.

CONTACT PERSON FOR MORE INFORMATION: Anne Sommers, NCD, 1331 F Street, NW., Suite 850, Washington, DC 20004; 202-272-2004 (V), 202-272-2074 (TTY).

ACCOMMODATIONS: Those who plan to attend and require accommodations should notify NCD as soon as possible to allow time to make arrangements.

Dated: May 9, 2011.
Aaron Bishop,
Executive Director.

[FR Doc. 2011-11677 Filed 5-9-11; 4:15 pm]

BILLING CODE 6820-MA-P